DEPARTMENT OF HOUSING AND URBAN DEVELOPMENT

[Docket No. FR-5976-N-05]

Housing Opportunity Through Modernization Act of 2016: Solicitation of Comments on Implementation of Public Housing Income Limit: Extension of Comment Period

AGENCY: Office of the General Counsel, HUD.

ACTION: Notice for comment, Extension of public comment period.

SUMMARY: On November 29, 2016, HUD published a notice in the Federal Register inviting public comment on the methodology HUD proposes to use to implement a new income limit in public housing. The November 29, 2016, notice set December 29, 2016, as the comment due date. In response to recent requests for additional time to submit public comments, this notice announces that HUD is extending the public comment period for an additional 30-day period to January 30, 2017.

DATES: Comment Due Date: For the notice published on November 29, 2016, (81 FR 85996), the comment due date is extended to January 30, 2017.

ADDRESSES: Interested persons are invited to submit comments regarding this notice for comment. All communications must refer to the above docket number and title. There are two methods for submitting public comments.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make comments immediately available to the public. Comments submitted electronically through the www.regulations.gov Web site can be viewed by other commenters and interested members of the public. Commenters should follow the instructions provided on that site to submit comments electronically.

No Facsimile Comments. Facsimile (fax) comments are not acceptable.

Public Inspection of Public Comments. All properly submitted comments and communications submitted to HUD will be available for public inspection and copying between 8 a.m. and 5 p.m., weekdays, at the above address. Due to security measures at the HUD Headquarters building, an advance appointment to review the public comments must be scheduled by calling the Regulations Division at 202-708-3055 (this is not a toll-free number). Individuals with speech or hearing impairments may access this number via TTY by calling the Federal Relay Service at 800-877-8339 (this is a toll-free number). Copies of all comments submitted are available for inspection and downloading at www.regulations.gov.

FOR FURTHER INFORMATION CONTACT: If you have any questions, please send an email to HOTMAquestions@hud.gov.

SUPPLEMENTARY INFORMATION: On November 29, 2016, at 81 FR 85996, HUD published a notice for comment seeking the public's input on a proposed methodology to implement the public income limit created by section 103 of the Housing Opportunity Through Modernization Act of 2016 (HOTMA) (Public Law 114-201, 130 Stat. 782). That notice set out the proposed methodology and included specific requests for comment. In response to recent requests for additional time to submit public comments, HUD is announcing through this notice that it is extending the public comment period for an additional 30-day period. Interested persons should refer to the November 29, 2016 notice for the list of topics for which HUD is seeking information.

Dated: December 15, 2016.
Aaron Santa Anna,
Assistant General Counsel for Regulations.

[FR Doc. 2016-30627 Filed 12-19-16; 8:45 am]

BILLING CODE 4210-67-P